NATIONAL FOUNDATION OF THE ARTS AND THE HUMANITIES

Institute of Museum and Library Services

39th Meeting of the National Museum and Library Services Board

AGENCY: Institute of Museum and Library Services (IMLS), National Foundation of the Arts and the Humanities NFAH.

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

Dates and Time: The meeting will be held on June 12, 2019, from 9:00 a.m. until adjourned.

Place: The meeting will be held at 955 L'Enfant Plaza North SW, first floor conference room, Washington, DC 20024.

FOR FURTHER INFORMATION CONTACT: Katherine Maas, Project Specialist and Alt. Designated Federal Officer, Institute of Museum and Library Services, Suite 4000, 955 L'Enfant Plaza North SW, Washington, DC 20024; (202) 653-4798; kmaas@imls.gov (mailto:kmaas@imls.gov).

SUPPLEMENTARY INFORMATION: The National Museum and Library Services Board is meeting pursuant to the National Museum and Library Service Act, 20 U.S.C. 9105a, and the Federal Advisory Committee Act (FACA), as amended, 5 U.S.C. App.

The 39th Meeting of the National Museum and Library Services Board will be held on June 12, 2019. A plenary session (open to the public) will convene at 9:00 a.m., followed by an Executive Session (closed to the public) discussion of specific agreements and programs before the Board.

The agency for the plenary session of the National Museum and Library Services Board will be as follows:

I. Welcome and Director's Report

II. Approval of Minutes

III. Office of Museum Services Report

IV. Office of Library Services Report

V. Office of Digital and Information Strategy Report

VI. Financial and Operations Report

VII. Legislative and Policy Report

As identified above, portions of the meeting of the National Museum and Library Services Board will be closed to the public pursuant to subsections (c)(4), (c)(6) and (c)(9) of section 552b of Title 5, United States Code, as amended. The closed session will consider information that may disclose: Trade secrets and commercial or financial information obtained from a person and privileged or confidential; and information the premature disclosure of which would be likely to significantly frustrate implementation of a proposed agency action.

If you wish to attend the public session of the meeting, please inform IMLS as soon as possible by contacting Katherine Maas at (202) 653-4798 or kmaas@imls.gov. Please provide notice of any special needs or accommodations by May 29, 2019.

Dated: May 13, 2019.
Kim Miller,
Grants Management Specialist, Institute of Museum and Library Services.

[FR Doc. 2019-10194 Filed 5-15-19; 8:45 am]

BILLING CODE 7036-01-P